OFFICE OF PERSONNEL MANAGEMENT

Federal Prevailing Rate Advisory Committee; Cancellation of Upcoming Meeting

AGENCY: U.S. Office of Personnel Management.

ACTION: Notice.

SUMMARY: The Federal Prevailing Rate Advisory Committee is issuing this notice to cancel the June 17, 2010, public meeting scheduled to be held in Room 5A06A, U.S. Office of Personnel Management Building, 1900 E Street, NW., Washington, DC. The original Federal Register notice announcing this meeting was published Monday, April 12, 2010, at 75 FR 18552.

FOR FURTHER INFORMATION CONTACT: Madeline Gonzalez, 202-606-2838; e-mail pay-performance-policy@opm.gov; or FAX: (202) 606-4264.

Sheldon Friedman,
Chairman, Federal Prevailing Rate Advisory Committee, U.S. Office of Personnel Management.

[FR Doc. 2010-14489 Filed 6-15-10; 8:45 am]

BILLING CODE 6325-49-P